FEDERAL ELECTION COMMISSION

Sunshine Act Notices

AGENCY: Federal Election Commission.

Note: There will be a continuation of the open meeting of Thursday, April 16, 2009, on Tuesday, April 21, 2009, at 10 a.m.

Item to be Discussed: Draft Advisory Opinion 2009-03: IntercontinentalExchange, Inc., by Andrew J. Surdykowski, Esquire.

Date AND Time: Thursday, April 23, 2009, at 10 a.m.

Place: 999 E Street, NW., Washington, DC (Ninth Floor).

Status: This meeting will be open to the public.

Items to be Discussed: Correction and Approval of Minutes.

Draft Advisory Opinion 2009-06: Jim Risch for Lieutenant Governor Committee, by David D. Goss, Treasurer.

Management and Administrative Matters. Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-9259 Filed 4-23-09; 8:45 am]

BILLING CODE 6715-01-M